FEDERAL COMMUNICATIONS COMMISSION

[AU Docket No. 13-53; DA 13-2057]

Tribal Mobility Fund Phase I Auction Rescheduled for February 25, 2014; Notice of Changes to Auction 902 Schedule Following Resumption of Normal Commission Operations

AGENCY: Federal Communications Commission.

ACTION: Notice.

SUMMARY: In this document, the Wireless Telecommunications and Wireline Competition Bureaus (the Bureaus) announce the rescheduling of Auction 902 and revise the dates and deadlines for the filing window for short-form applications and other auction processes.

FOR FURTHER INFORMATION CONTACT: Wireless Telecommunications Bureau, Auctions and Spectrum Access Division: Patricia Robbins at (202) 418-0660. To request materials in accessible formats (Braille, large print, electronic files, audio format) for people with disabilities, send an email to fcc504@fcc.gov or call the Consumer and Governmental Affairs Bureau at (202) 418-0530 or (202) 418-0432 (TTY).

SUPPLEMENTARY INFORMATION: This is a summary of the Auction 902 Rescheduling Public Notice released on October 30, 2013. The complete text of the Auction 902 Rescheduling Public Notice and related Commission documents are available for public inspection and copying from 8:00 a.m. to 4:30 p.m. Eastern Time (ET) Monday through Thursday or from 8 a.m. to 11:30 a.m. ET on Fridays in the FCC Reference Information Center, 445 12th Street SW., Room CY-A257, Washington, DC 20554. The Auction 902 Rescheduling Public Notice and related Commission documents also may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 13-2057 for the Auction 902 Rescheduling Public Notice. The Auction 902 Rescheduling Public Notice and related documents also are available on the Internet at the Commission's Web site: http://wireless.fcc.gov/auctions/902/, or by using the search function for AU Docket No. 13-53 on the Commission's Electronic Comment Filing System (ECFS) Web page at http://www.fcc.gov/cgb/ecfs/.

1. The Bureaus announce that Auction 902, the single-round reverse auction that will award up to $50 million in one-time Tribal Mobility Fund Phase I support, will be conducted on February 25, 2014. The Auction 902 Rescheduling Public Notice also revises the previously-announced schedule of pre-auction deadlines for Auction 902.

2. The Auction 902 short-form application filing window opened at 12 noon ET on September 30, 2013, but was suspended on October 1, 2013, along with other Commission operations. Regular Commission operations were suspended from October 1 through October 16, 2013, due to a Government-wide lapse in funding. In the Auction 902 Rescheduling Public Notice, the Bureaus adopt schedule changes intended to give potential bidders and Commission staff additional time for planning and preparation for Auction 902 following the now-concluded 16-day suspension of regular Commission operations.

3. The following dates and deadlines will now apply to Auction 902: (1) A revised auction tutorial incorporating the revised dates and deadlines will be available (via Internet) by November 18, 2013; (2) the short-form application (FCC Form 180) filing window will reopen on November 18, 2013, at 12:00 noon ET; (3) the short-form application (FCC Form 180) filing window will close on December 5, 2013, at 6:00 p.m. ET; (4) a mock auction will be held on February 21, 2014; and (5) Auction 902 will be held on February 25, 2014. All other procedures, terms and requirements as set out in the Auction 902 Procedures Public Notice, 78 FR 56875, September 16, 2013, remain unchanged.

4. The Bureaus note that any information previously saved in a short-form application, FCC Form 180, during the period that the filing window was open prior to the suspension of the window on October 1, 2013, will be retained in the Commission's Auction system and will be accessible to the applicant when the short-form application filing window reopens.

Federal Communications Commission
Gary D. Michaels,
Deputy Chief, Auctions and Spectrum Access Division, WTB.

[FR Doc. 2013-27444 Filed 11-14-13; 8:45 am]

BILLING CODE 6712-01-P